INTERNATIONAL TRADE COMMISSION

[Investigations Nos. 731-TA-367-370 (Review)]

Color Picture Tubes From Canada, Japan, Korea, and Singapore

Determinations

On the basis of the record ¹ developed in the subject five-year reviews, the United States International Trade Commission determines, pursuant to section 751(c) of the Tariff Act of 1930 (19 U.S.C. 1675(c)) (the Act), that revocation of the antidumping duty orders on color picture tubes from Canada, Japan, Korea, and Singapore would not be likely to lead to continuation or recurrence of material injury to an industry in the United States within a reasonably foreseeable time.

¹ The record is defined in sec. 207.2(f) of the Commission's Rules of Practice and Procedure (19 CFR 207.2(f)).

Background

The Commission instituted these reviews on March 1, 1999 (64 FR 10014) and determined on June 3, 1999 that it would conduct full reviews (64 FR 31609, June 11, 1999). Notice of the scheduling of the Commission's reviews and of a public hearing to be held in connection therewith was given by posting copies of the notice in the Office of the Secretary, U.S. International Trade Commission, Washington, DC, and by publishing the notice in the Federal Register on July 19, 1999 (64 FR 38690).² The hearing was held in Washington, DC, on February 17, 2000, and all persons who requested the opportunity were permitted to appear in person or by counsel.

² Pursuant to a request by parties in support of continuation of the orders, the Commission revised and extended its schedule for these reviews on November 30, 1999 (64 FR 68116, December 6, 1999).

The Commission will transmit its determinations in these reviews to the Secretary of Commerce on April 13, 2000. The views of the Commission are contained in USITC Publication 3291 (April 2000), entitled Color Picture Tubes from Canada, Japan, Korea, and Singapore: Investigations Nos. 731-TA-367-370 (Review).

Issued: March 30, 2000.
By order of the Commission.
Donna R. Koehnke,
Secretary.

[FR Doc. 00-8370 Filed 4-4-00; 8:45 am]

BILLING CODE 7020-02-P